DEPARTMENT OF AGRICULTURE

Forest Service

Notice of Settlement Pursuant to CERCLA; Administrative Settlement Agreement and Order on Consent for the Ross Adams Mine Site Cleanup

AGENCY: Forest Service, USDA.

ACTION: Notice of settlement; comment request.

SUMMARY: In accordance with section 122(i) of the Comprehensive Environmental Response, Compensation, and Liability Act, as amended (CERCLA), notice is hereby given that the USDA Forest Service is seeking comments on the Administrative Settlement Agreement and Order on Consent for Removal Action (“ASAOC”) for the Ross Adams Mine Site (“the Site”). On January 17, 2020, the United States Department of Agriculture (USDA), Forest Service, Region 10 entered into an ASAOC with Newmont USA Limited (“Newmont”) and Dawn Mining Company, LLC (“Dawn”). The ASAOC provides for a comprehensive cleanup of the Ross Adams Mine Site in southeastern Alaska.

DATES: Comments must be received, in writing, on or before August 7, 2020.

ADDRESSES: Written comments concerning this notice should be addressed to Linda Riddle, Alaska On-Scene Coordinator, at USDA, Forest Service, Alaska Regional Office, P.O. Box 21628, Juneau, AK 99802. Comments may also be sent via email to linda.riddle@USDA.gov, or via facsimile to Linda Riddle at 907-586-7555. The ASAOC may be viewed at: https://www.fs.usda.gov/detail/tongass/landmanagement/projects/?cid=fseprd574452.

All comments, including names and addresses when provided, are placed in the record and are available for public inspection and copying. The public may inspect comments received at: https://www.fs.usda.gov/detail/tongass/landmanagement/projects/?cid=fseprd574452. Both the ASAOC and comments can be viewed and copied at the Federal Building, 709 W 9th Street, Juneau, AK 99801. Visitors are encouraged to call ahead to Linda Riddle at 907-586-9379 to facilitate entry to the building. The ASAOC and comments may also be viewed and copied at Tongass National Forest, 648 Mission Street, Federal Building, Ketchikan, AK 99901-6591; Craig Ranger District, 504 9th Street, P.O. Box 705, Craig, AK 99921-9998; and to Thorne Bay Ranger District, 1312 Federal Way, P.O. Box 19001, Thorne Bay, AK 99919-0001. Due to uncertainties caused by COVID-19, office hours and staffing may vary and visitors are encouraged to call ahead to the front desks of these offices. In Ketchikan the number is 907-225-3101; in Craig the number is 907-826-3271; and in Thorne Bay the number is 907-828-3304. The front desk receptionist at each location will assist callers.

The Forest Service will consider all comments received on the ASAOC and may modify or withdraw its consent to the ASAOC if comments received disclose facts or considerations that indicate that the settlement is inappropriate, improper, or inadequate.

FOR FURTHER INFORMATION CONTACT: Additional information concerning this project may be obtained on the Tongass National Forest website at: https://www.fs.usda.gov/detail/tongass/landmanagement/projects/?cid=fseprd574452.

Individuals who use telecommunication devices for the deaf (TDD) may call the Federal Information Relay Service (FIRS) at 1-800-877-8339 between 8:00 a.m. and 8:00 p.m., Eastern Standard Time, Monday through Friday.

SUPPLEMENTARY INFORMATION: Beginning in the 1950s, various mining companies began extracting uranium ore at the Ross Adams Mine. In recent decades, the mine was abandoned and has been releasing hazardous substances, including radionuclides, into the environment. For over a decade, the Forest Service has conducted a comprehensive investigation at the Site, in cooperation with Newmont and Dawn, pursuant to the Forest Service's authority under the Comprehensive Environmental Response, Compensation, and Liability Act (“CERCLA”), 42 U.S.C. 9601. For several years, the Forest Service, Newmont, and Dawn have been negotiating the terms of a mutually acceptable cleanup process at the Site.

The ASAOC requires Newmont and Dawn to perform a comprehensive cleanup on site addressing all significant environmental contamination at an estimated cost of $7.2 million. The proposed ASAOC will resolve all CERCLA claims alleged by the Forest Service against Newmont and Dawn.

Allen Rowley,
Associate Deputy Chief, National Forest System.

[FR Doc. 2020-14641 Filed 7-7-20; 8:45 am]

BILLING CODE 3411-15-P